NATIONAL CREDIT UNION ADMINISTRATION

Sunshine Act: Notice of Agency Meeting

TIME AND DATE: 10:00 a.m., Thursday, June 19, 2014.

PLACE: Board Room, 7th Floor, Room 7047, 1775 Duke Street (All visitors must use Diagonal Road Entrance), Alexandria, VA 22314-3428.

STATUS: Open

MATTERS TO BE CONSIDERED:

1. NCUA's Rules and Regulations, Voluntary Liquidations.

2. NCUA's Rules and Regulations, Asset Securitization.

3. NCUA's Rules and Regulations, Safe Harbor.

4. NCUA's Rules and Regulations, Appraisals.

5. Request to Convert Charter, Mainstreet Credit Union (Lenexa, Kansas).

RECESS: 11:15 a.m.

TIME AND DATE: 11:30 a.m., Thursday, June 19, 2014.

PLACE: Board Room, 7th Floor, Room 7047, 1775 Duke Street, Alexandria, VA 22314-3428.

STATUS: Closed.

MATTERS TO BE CONSIDERED:

1. Consideration of Supervisory Activities. Closed pursuant to Exemptions (8), (9)(i)(B) and (9)(ii).

2. Proposed Merger under NCUA's Rules and Regulations. Closed pursuant to Exemption (8).

FOR FURTHER INFORMATION CONTACT: Gerard Poliquin, Secretary of the Board, Telephone: 703-518-6304.

Gerard Poliquin,
Secretary of the Board.

[FR Doc. 2014-14094 Filed 6-12-14; 11:15 am]

BILLING CODE 7535-01-P